DEPARTMENT OF COMMERCE

International Trade Administration

North American Free Trade Agreement (NAFTA), Article 1904 Binational Panel Review: Panel Order To Stay Proceedings

AGENCY: United States Section, NAFTA Secretariat, International Trade Administration, Department of Commerce.

ACTION: Notice.

SUMMARY: The Panel granted a Notice of Motion to Stay Proceedings that was filed on behalf of the Government of Canada; the Governments of Ontario and Québec; Canfor Corporation, Resolute FP Canada Inc., Tolko Marketing and Sales Ltd. and Tolko Industries Ltd., and West Fraser Mills Ltd. (collectively, the “Canadian Parties”) in NAFTA dispute USA-CDA-2017-1904-03. Specifically, the Panel ordered that all matters in this proceeding be stayed until the issuance of a mandate pursuant to Fed. R. App. P. 41 in a related appeal now pending before the U.S. Court of Appeals for the Federal Circuit (“CAFC”), Stupp Corp. v. United States, Case No. 23-1663. All other deadlines in this proceeding, including issuance of the final determination by the Panel are stayed.

FOR FURTHER INFORMATION CONTACT: Vidya Desai, United States Secretary, NAFTA Secretariat, Room 2061, 1401 Constitution Avenue NW, Washington, DC 20230, 202-482-5438.

SUPPLEMENTARY INFORMATION: Article 1904 of chapter 19 of NAFTA provides a dispute settlement mechanism involving trade remedy determinations issued by the Government of the United States, the Government of Canada, and the Government of Mexico. Following a Request for Panel Review, a Binational Panel is composed to review the trade remedy determination being challenged and issue a binding Panel Decision. There are established NAFTA Rules of Procedure for Article 1904 Binational Panel Reviews, which were adopted by the three governments. For the complete Rules, please see https://can-mex-usa-sec.org/secretariat/agreement-accord-acuerdo/nafta-alena-tlcan/rules-regles-reglas/article-article-articulo_1904.aspx?lang=eng.

Dated: July 1, 2024.
Vidya Desai,
United States Secretary, NAFTA Secretariat.

[FR Doc. 2024-14789 Filed 7-8-24; 8:45 am]

BILLING CODE 3510-GT-P